DEPARTMENT OF HEALTH AND HUMAN SERVICES

National Institutes of Health

Center for Scientific Review; Amended Notice of Meeting

Notice is hereby given of a change in the meeting of the Neurobiology of Motivated Behavior Study Section, April 17, 2025, 09:00 a.m. to April 18, 2025, 08:00 p.m., National Institutes of Health, Rockledge II, 6701 Rockledge Drive, Bethesda, MD 20892 which was published in the Federal Register on March 10, 2025, 90 FR 11610, Doc No. 2025-03763.

This meeting is being amended to change the contact person from Janita Turchi, Ph.D. to Joseph Rudolph, Ph.D., Center for Scientific Review, National Institutes of Health, 6701 Rockledge Drive, Bethesda, MD 20892, josephru@csr.nih.gov, (301)-408-9098. The meeting is closed to the public.

Dated: April 2, 2025.
Sterlyn H. Gibson,
Program Specialist, Office of Federal Advisory Committee Policy.

[FR Doc. 2025-05942 Filed 4-4-25; 8:45 am]

BILLING CODE 4140-01-P